DEPARTMENT OF THE INTERIOR

Bureau of Land Management

[AZ-910-0777-26-241A]

State of Arizona Resource Advisory Council Meeting

AGENCY: Bureau of Land Management, Interior.

ACTION: Arizona Resource Advisory Council meeting notice.

SUMMARY: This notice announces a meeting and tour of the Arizona Resource Advisory Council (RAC).

The business meeting will be held on February 18, 2004, at the BLM Yuma Field Office, 2555 East Gila Ridge Road, Yuma, Arizona. It will begin at 9 a.m. and conclude at 4 p.m. The agenda items to be covered include: Review of the December 4, 2003 meeting minutes; BLM State Director's Update on Statewide Issues; Presentations on BLM Land Tenure and Acquisition Program, Cultural Resources Program and the Wild Horse and Burro Foundation; RAC discussion and comments on the BLM Draft Grazing Environmental Impact Statement and Proposed Grazing Regulation changes; RAC Questions on Written Reports from BLM Field Office Managers; Field Office Rangeland Resource Team Proposals; Reports by the Standards and Guidelines, Recreation, Off-Highway Vehicle Use, Public Relations, Land Use Planning and Tenure, and Wild Horse and Burro Working Groups; Reports from RAC members; and Discussion of future meetings. A public comment period will be provided at 11 a.m. on February 18, 2004, for any interested persons who wish to address the Council.

On February 19, 2004, the RAC will tour Sears Point, a significant cultural site with prehistoric and historic petroglyphs near Yuma, Arizona from 8 a.m. until 12 p.m.

FOR FURTHER INFORMATION CONTACT: Deborah Stevens, Bureau of Land Management, Arizona State Office, 222 North Central Avenue, Phoenix, Arizona 85004-2203, (602) 417-9215.

Michael Taylor,
Acting Arizona State Director.

[FR Doc. 04-1170 Filed 1-20-04; 8:45 am]

BILLING CODE 4310-32-M